DEPARTMENT OF COMMERCE

Bureau of Industry and Security

[Docket No. 250226-0029]

XRIN 0694-XC114

Implementation of Duties on Steel Pursuant to Proclamation 10896 Adjusting Imports of Steel Into the United States

AGENCY: Bureau of Industry and Security, Department of Commerce.

ACTION: Notice.

SUMMARY: The President issued Proclamation 10896 “Adjusting Imports of Steel into the United States,” (Steel Presidential Proclamation) on February 10, 2025, imposing specified rates of duty on imports of steel. In Proclamation 10896, the President authorized and directed the Secretary of Commerce to publish modifications to the Harmonized Tariff Schedule of the United States (HTSUS) so that it conforms to the amendments and effective dates in the proclamation. The revised HTSUS is set out in Annex 1 to this notice.

DATES: The duties set out in the annex to this document are effective with respect to certain products that are entered for consumption, or withdrawn from warehouse for consumption, on or after 12:01 a.m. Eastern Time on March 12, 2025.

SUPPLEMENTARY INFORMATION:

Background

On February 10, 2025, the President issued the Steel Presidential Proclamation adjusting the imports of steel into the United States (Proclamation 10896 of February 10, 2025) (90 FR 9817). The Steel Presidential Proclamation instructed the United States International Trade Commission, in consultation with the Secretary of Commerce, the Commissioner of United States Customs and Border Protection (CBP) within the Department of Homeland Security, and the heads of other relevant executive departments and agencies, to revise the HTSUS so that it conforms to the amendments and effective dates directed in the Steel Presidential Proclamation within ten days of March 12, 2025. The Proclamation directed and authorized the Secretary of Commerce to publish any such modifications to the HTSUS in the Federal Register. Annex 1 to this notice is the modified HTSUS.

Eric Longnecker,
Deputy Assistant Secretary for Technology Security.

Annex 1

A. Effective with respect to goods entered for consumption, or withdrawn from warehouse for consumption, on or after 12:01 a.m. eastern daylight time on March 12, 2025, except for subdivision (n) which shall be effective upon public notification of the Secretary of Commerce:

a. The following new subdivisions (i) through (o) are inserted in note 16 to subchapter III of chapter 99 of the Harmonized Tariff Schedule of the United States (HTSUS) in numerical order:

“(i) Headings 9903.81.87 and 9903.81.88 provide the ordinary customs duty treatment of iron or steel products, as enumerated in subdivision (j) of this note, of all countries other than products of the United States. For any such products that are eligible for special tariff treatment under any of the free trade agreements or preference programs listed in general note 3(c)(i) to the tariff schedule, the duty provided in heading 9903.81.87 shall be collected in addition to any special rate of duty otherwise applicable under the appropriate tariff subheading. Goods for which entry is claimed under a provision of chapter 98 and which are subject to the additional duties prescribed herein shall be eligible for and subject to the terms of such provision and applicable U.S. Customs and Border Protection (“CBP”) regulations, except that duties under subheading 9802.00.60 shall be assessed based upon the full value of the imported article. No claim for entry or for any duty exemption or reduction shall be allowed for the iron or steel products enumerated in subdivision (j) of this note under a provision of chapter 99 that may set forth a lower rate of duty or provide duty-free treatment, taking into account information supplied by CBP, but any additional duty prescribed in any provision of this subchapter or subchapter IV of chapter 99 shall be imposed in addition to the duty in heading 9903.81.87. All antidumping, countervailing, or other duties and charges applicable to such goods shall continue to be imposed in addition to the duty in heading 9903.81.87.

“(j) The rates of duty set forth in heading 9903.81.87 apply to all imported products of iron or steel classifiable in the provisions of the HTSUS enumerated in this subdivision:

(i) flat-rolled products provided for in headings 7208, 7209, 7210, 7211, 7212, 7225 or 7226;

(ii) bars and rods provided for in headings 7213, 7214, 7215, 7227, or 7228; angles, shapes and sections of 7216 (except subheadings 7216.61.00, 7216.69.00 or 7216.91.00); wire provided for in headings 7217 or 7229; sheet piling provided for in subheading 7301.10.00; rails provided for in subheading 7302.10; fish-plates and sole plates provided for in subheading 7302.40.00; and other products of iron or steel provided for in subheading 7302.90.00;

(iii) tubes, pipes and hollow profiles provided for in heading 7304 or 7306; tubes and pipes provided for in heading 7305;

(iv) ingots, other primary forms and semi-finished products provided for in headings 7206, 7207 or 7224; and

(v) products of stainless steel provided for in headings 7218, 7219, 7220, 7221, 7222 or 7223.

“Any reference above to iron or steel products classifiable in any heading or subheading of chapter 72 or 73, as the case may be, shall mean that any good provided for in the article description of such heading or subheading and of all its subordinate provisions (both legal and statistical) is covered by the provisions of this note and related tariff provisions.

“(k) Headings 9903.81.89, 9903.81.90, 9903.81.91, and 9903.81.93 provide the ordinary customs duty treatment of the derivative iron or steel products, as enumerated in subdivisions (l), (m) and (n), respectively, of this note for all countries other than products of the United States. For any such derivative iron or steel products that are eligible for special tariff treatment under any of the free trade agreements or preference programs listed in general note 3(c)(i) to the tariff schedule, the duty provided in such headings shall be collected in addition to any special rate of duty otherwise applicable under the appropriate tariff subheading. Goods for which entry is claimed under a provision of chapter 98 and which are subject to the additional duties prescribed herein shall be eligible for and subject to the terms of such provision and applicable CBP regulations, except that duties under subheading 9802.00.60 shall be assessed based upon the full value of the imported article. No claim for entry or for any duty exemption shall be allowed for the derivative iron or steel articles enumerated in subdivisions (l), (m) or (n) of this note under a provision of chapter 99 that may set forth a lower rate of duty or provide duty-free treatment, taking into account information supplied by CBP, but any additional duty prescribed in any provision of this subchapter or subchapter IV of chapter 99 shall be imposed in addition to the duty in headings 9903.81.89, 9903.81.90, or 9903.81.91. All antidumping, countervailing, or other duties and charges applicable to such goods shall continue to be imposed.

“(l) The rates of duty set forth in heading 9903.81.89 apply to all imported derivative iron or steel products classifiable in the provisions of the HTSUS enumerated in this subdivision:

(A) nails, tacks (other than thumb tacks), drawing pins, corrugated nails, staples (other than those of heading 8305) and similar articles, of iron or steel, whether or not with heads of other material (excluding such articles with heads of copper), suitable for use in powder-actuated handtools, threaded (described in subheading 7317.00.30)

(B) nails, tacks (other than thumb tacks), drawing pins, corrugated nails, staples (other than those of heading 8305) and similar articles, of iron or steel, whether or not with heads of other material (excluding such articles with heads of copper), of one piece construction, whether or not made of round wire; the foregoing described in statistical reporting numbers 7317.00.5503, 7317.00.5505, 7317.00.5507, 7317.00.5560, 7317.00.5580 or 7317.00.6560 only and not in other statistical reporting numbers of subheadings 7317.00.55 and 7317.00.65

(C) bumper stampings of steel, the foregoing comprising parts and accessories of the motor vehicles of headings 8701 to 8705 (described in subheading 8708.10.30); and

(D) body stampings of steel, for tractors suitable for agricultural use (described in subheading 8708.29.21).

“(m) The rates of duty set forth in heading 9903.81.90 apply to all imported derivative iron or steel products that are classified in the following subheadings of the HTSUS, unless the derivative iron or steel product was processed in another country from steel articles that were melted and poured in the United States: 7301.20.10; 7301.20.50; 7302.30.00; 7307.21.10; 7307.21.50; 7307.22.10; 7307.22.50; 7307.23.00; 7307.29.00; 7307.91.10; 7307.91.30; 7307.91.50; 7307.92.30; 7307.92.90; 7307.93.30; 7307.93.60; 7307.93.90; 7307.99.10; 7307.99.30; 7307.99.50; 7308.10.00; 7308.20.00; 7308.30.10; 7308.30.50; 7308.40.00; 7308.90.30; 7308.90.60; 7308.90.70; 7308.90.95; 7309.00.00; 7310.10.00; 7310.21.00; 7310.29.00; 7311.00.00; 7312.10.05; 7312.10.10; 7312.10.20; 7312.10.30; 7312.10.50; 7312.10.60; 7312.10.70; 7312.10.80; 7312.10.90; 7312.90.00; 7313.00.00; 7314.12.10; 7314.12.20; 7314.12.30; 7314.12.60; 7314.12.90; 7314.14.10; 7314.14.20; 7314.14.30; 7314.14.60; 7314.14.90; 7314.19.01: 7314.20.00; 7314.31.10; 7314.31.50; 7314.39.00; 7314.41.00; 7314.42.00; 7314.49.30; 7314.49.60; 7314.50.00; 7315.11.00; 7315.12.00; 7315.19.00; 7315.20.10; 7315.20.50; 7315.81.00; 7315.82.10; 7315.82.30; 7315.82.50; 7315.82.70; 7315.89.10; 7315.89.30; 7315.89.50; 7315.90.00; 7316.00.00; 7317.00.10; 7317.00.20; 7317.00.55; 7317.00.65; 7317.00.75; 7318.11.00; 7318.12.00; 7318.13.00; 7318.14.10; 7318.14.50; 7318.15.20; 7318.15.40; 7318.15.50; 7318.15.60; 7318.15.80; 7318.16.00; 7318.19.00; 7318.21.00; 7318.22.00; 7318.23.00; 7318.24.00; 7318.29.00; 7319.40.20; 7319.40.30; 7319.40.50; 7319.90.10; 7319.90.90; 7320.10.30; 7320.10.60; 7320.10.90; 7320.20.10; 7320.20.50; 7320.90.10; 7320.90.50; 7321.11.10; 7321.11.30; 7321.11.60; 7321.12.00; 7321.19.00; 7321.81.10; 7321.81.50; 7321.82.10; 7321.82.50; 7321.89.00; 7321.90.10; 7321.90.20; 7321.90.40; 7321.90.50; 7321.90.60; 7322.19.00; 7322.90.00; 7323.10.00; 7323.93.00; 7323.94.00; 7323.99.10; 7323.99.30; 7323.99.50; 7323.99.70; 7323.99.90; 7324.10.00; 7324.29.00; 7324.90.00; 7325.91.00; 7325.99.10; 7325.99.50; 7326.11.00; 7326.19.00; 7326.20.00; 7326.90.10; 7326.90.25; 7326.90.35; 7326.90.45; 7326.90.60; 7326.90.86.

For subheadings 7317.00.55 and 7317.00.65, this provision shall apply to those statistical reporting numbers not specifically enumerated in subdivision (l) above.

“(n) The rates of duty in heading 9903.81.91 apply to all imported derivative iron or steel products that are classified in the following subheadings of the HTSUS, including products admitted into a U.S. foreign trade zone under “privileged foreign status” as defined by 19 CFR 146.41, prior to 12:01 a.m. eastern daylight time on March 12, 2025, unless the derivative iron or steel product was processed in another country from steel articles that were melted and poured in the United States: 8431.31.00; 8431.42.00; 8431.49.10; 8431.49.90; 8432.10.00; 8432.90.00; 8547.90.00; 9403.20.00; 9405.99.20; 9405.99.40; 9406.20.00; 9406.90.01.

“For any derivative steel article that is classified in one of the subheadings of the HTSUS that is listed in this subdivision, the additional ad valorem duty imposed by heading 9903.81.91 shall only apply to the declared value of the steel content of the derivative article. The quantity of the steel content shall be reported in kg for heading 9903.81.91, in addition to the units provided in chapters 1 through 97 for the derivative steel article, in accordance with Statistical Note 1(b) of Chapter 99.

“(o) Any importer entering the iron or steel products covered by this note under headings 9903.81.87 or 9903.81.88, or any importer of the derivative iron or steel products covered by this note under headings 9903.81.89, 9903.81.90, 9903.81.91, 9903.81.92 or 9903.81.93 shall provide any information that may be required, and in such form, as is deemed necessary by CBP in order to permit the administration of these headings.”

b. Subchapter III of chapter 99 of the HTSUS is modified:

1. by inserting new headings 9903.81.87, 9903.81.88, 9903.81.89, 9903.81.90, 9903.81.91, 9903.81.92 and 9903.81.93 in numerical sequence, with the material in the new heading inserted in the columns of the HTSUS labeled “Heading/Subheading”, “Article Description”, “Rates of Duty 1-General”, “Rates of Duty 1-Special” and “Rates of Duty 2”, respectively:

Heading/subheading | Article description | Rates of duty: 1: General | Rates of duty: 1: Special | Rates of duty: 2
“9903.81.87 | Except for derivative iron or steel products described in headings 9903.81.89, 9903.81.90 or 9903.81.91, products of iron or steel provided for in the tariff headings or subheadings enumerated in subdivision (j) of note 16 to this subchapter | The duty provided in the applicable subheading + 25% | The duty provided in the applicable subheading + 25% | The duty provided in the applicable subheading + 25%.
9903.81.88 | Products of iron or steel provided for in the tariff headings or subheadings enumerated in subdivision (j) of note 16 to this subchapter, admitted to a U.S. foreign trade zone under “privileged foreign status” as defined by 19 CFR 146.41, prior to 12:01 a.m. eastern daylight time on March 12, 2025 | The duty provided in the applicable subheading + 25% | The duty provided in the applicable subheading + 25% | The duty provided in the applicable subheading + 25%.
9903.81.89 | Derivative iron or steel products provided for in the tariff provisions enumerated in subdivision (l) of note 16 to this subchapter | The duty provided in the applicable subheading + 25% | The duty provided in the applicable subheading + 25% | The duty provided in the applicable subheading + 25%.
9903.81.90 | Except as provided in heading 9903.81.92, derivative iron or steel products provided for in the tariff subheadings enumerated in subdivision (m) of note 16 to this subchapter | The duty provided in the applicable subheading + 25% | The duty provided in the applicable subheading + 25% | The duty provided in the applicable subheading + 25%.
9903.81.91 | Except as provided in heading 9903.81.92, derivative iron or steel products provided for in the tariff subheadings enumerated in subdivision (n) of note 16 to this subchapter | The duty provided in the applicable subheading + a duty of 25% upon the value of the steel content | The duty provided in the applicable subheading + a duty of 25% upon the value of the steel content | The duty provided in the applicable subheading + a duty of 25% upon the value of the steel content.
9903.81.92 | Derivative iron or steel products provided for in the tariff subheadings enumerated in subdivision (m) or subdivision (n) of note 16 to this subchapter, where the derivative iron or steel product was processed in another country from steel articles that were melted and poured in the United States | The duty provided in the applicable subheading | The duty provided in the applicable subheading | The duty provided in the applicable subheading.
9903.81.93 | Except as provided in headings 9903.81.91 or 9903.81.92, derivative products of iron or steel, as specified in subdivisions (l) and (m) of note 16 to this subchapter, admitted to a U.S. foreign trade zone under “privileged foreign status” as defined by 19 CFR 146.41, prior to 12:01 a.m. eastern daylight time on March 12, 2025 | The duty provided in the applicable subheading + 25% | The duty provided in the applicable subheading + 25% | The duty provided in the applicable subheading + 25%”.

B. Subdivisions (a) through (h) of note 16 to subchapter III of chapter 99 of the HTSUS and heading 9903.80.01 through 9903.81.86 shall continue to apply to goods entered for consumption, or withdrawn from warehouse for consumption, prior to 12:01 a.m. eastern daylight time on March 12, 2025.

[FR Doc. 2025-03598 Filed 3-3-25; 11:15 am]

BILLING CODE 3510-33-P